DEPARTMENT OF HEALTH AND HUMAN SERVICES

Health Resources and Services Administration

Advisory Committee on Training in Primary Care Medicine and Dentistry Meeting Cancellation

AGENCY: Health Resources and Services Administration; Department of Health and Human Services.

ACTION: Notice of meeting cancellation.

SUMMARY: This is to notify the public that the August 8, 2019, meeting of the Advisory Committee on Training in Primary Care Medicine and Dentistry (ACTPCMD) is cancelled. This meeting was announced in the Federal Register, Vol. 84, No. 31 on Thursday, February 14, 2019 (FR Doc. 2019-02318 Filed 2-13-19). Future meetings will occur in calendar year 2020 and be announced at a later date.

FOR FURTHER INFORMATION CONTACT: Dr. Kennita Carter, Designated Federal Officer, ACTPCMD, 5600 Fishers Lane, Rockville, Maryland 20857, telephone: (301) 945-3505 or email: BHWACTPCMD@hrsa.gov.

Maria G. Button,
Director, Division of the Executive Secretariat.

[FR Doc. 2019-13704 Filed 6-26-19; 8:45 am]

BILLING CODE 4165-15-P